DEPARTMENT OF ENERGY

Federal Energy Regulatory Commission

[Project No. 13570-001]

Warmsprings Irrigation District; Notice of Intent To File License Application, Filing of Pre-Application Document, and Approving Use of the Traditional Licensing Process

a. Type of Filing: Notice of Intent To File License Application and Request To Use the Traditional Licensing Process.

b. Project No.: 13570-001.

c. Dated Filed: February 28, 2011.

d. Submitted by: Warmsprings Irrigation District.

e. Name of Project: Warmsprings Dam Hydroelectric Project.

f. Location: On the Warmsprings dam and reservoir, in Malheur and Harney Counties, Oregon. The project occupies United States lands administered by the U.S. Bureau of Reclamation and the U.S. Bureau of Land Management.

g. Filed Pursuant to: 18 CFR 5.3 of the Commission's regulations.

h. Potential Applicant Contact: Randy Kinney, Warmsprings Irrigation District, 334 Main Street North, Vale, OR 97918; (541) 473-3951.

i. FERC Contact: Kelly Wolcott at (202) 502-6480; or e-mail at kelly.wolcott@ferc.gov.

j. Warmsprings Irrigation District filed its request to use the Traditional Licensing Process on February 28, 2011. Warmsprings Irrigation District provided public notice of its request on March 31, 2011. In a letter dated April 22, 2011, the Director of the Division of Hydropower Licensing approved Warmsprings Irrigation District's request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Oregon State Historic Preservation Officer, as required by section 106, National Historical Preservation Act, and the implementing regulations of the Advisory Council on Historic Preservation at 36 CFR 800.2.

l. Warmsprings Irrigation District filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

n. Register online at http://www.ferc.gov/docs-filing/esubscription.asp to be notified via e-mail of new filing and issuances related to this or other pending projects. For assistance, contact FERC Online Support.

Dated: April 22, 2011.
Kimberly D. Bose,
Secretary.

[FR Doc. 2011-10307 Filed 4-28-11; 8:45 am]

BILLING CODE 6717-01-P